FEDERAL COMMUNICATIONS COMMISSION

47 CFR Part 73

[DA 12-1207]

Radio Broadcasting Services; Westley, CA

AGENCY: Federal Communications Commission.

ACTION: Final rule.

SUMMARY: The Audio Division unreserved Channel 239A at Westley, California for noncommercial educational (“NCE”) use by operation of law since none of the applications in NCE Reserved Allotment Group No. 8 would provide the requisite level of first and second NCE use. The window period for filing applications for Channel 239A at Westley, California will not be opened at this time. Instead, the issue of opening this allotment for auction for commercial use will be addressed by the Commission in a subsequent order. Accordingly, we are amending the FM Table of Allotments by removing the NCE “asterisk” from Channel 239A at Westley, California.

DATES: Effective August 20, 2012 and applicable July 27, 2012.

FOR FURTHER INFORMATION CONTACT: Michael Wagner, Media Bureau, (202) 418-2700 or Rolanda F. Smith, Media Bureau, (202) 418-2700.

SUPPLEMENTARY INFORMATION: This is a synopsis of the Commission's Letter, released July 27, 2012. The full text of this Commission decision is available for inspection and copying during normal business hours in the FCC's Reference Information Center at Portals II, CY-A257, 445 12fth Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. This document is not subject to the Congressional Review Act. Therefore, the Commission is not required to submit a copy of this Report and Order to the Government Accountability Office and Congress, pursuant to the Congressional Review Act, see 5 U.S.C. 801(a)(1)(A) because these rules are rules of particular applicability and are not subject to the Commission's notice and comment procedures.

List of Subjects in 47 CFR Part 73

Radio, Radio broadcasting.

Federal Communications Commission.
Peter H. Doyle,
Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under California, is amended by removing Channel *239A and by adding Channel 239A at Westley.

[FR Doc. 2012-19729 Filed 8-17-12; 8:45 am]

BILLING CODE 6712-01-P